DEPARTMENT OF ENERGY

Federal Energy Regulatory Commission

Combined Notice of Filings #1

October 19, 2010.

Take notice that the Commission received the following electric corporate filings:

Docket Numbers: EC11-9-000.

Applicants: Tenaska Energy Inc, Kiowa Power Partners, LLC, Tenaska Alabama II Partners, L.P., Tenaska Gateway Partners LTD, Tenaska Georgia Partners LP, Tenaska Virginia Partners, L.P., Tyr Acquisition Company, LLC.

Description: Tenaska Energy, Inc., et al. Joint Application For Approval.

Filed Date: 10/18/2010.

Accession Number: 20101018-5154.

Comment Date: 5 p.m. Eastern Time on Monday, November 8, 2010.

Docket Numbers: EC11-10-000.

Applicants: FirstEnergy Generation Corp.

Description: FirstEnergy Generation Corp. Application for Authorization Pursuant to Section 203 of the Federal Power Act and Requests for Waivers of Filing Requirements, Confidential Treatment, and Expedited Review.

Filed Date: 10/18/2010.

Accession Number: 20101018-5206.

Comment Date: 5 p.m. Eastern Time on Monday, November 8, 2010.

Take notice that the Commission received the following exempt wholesale generator filings:

Docket Numbers: EG11-6-000.

Applicants: AES ES Deepwater, LLC.

Description: Notice of Self-Certification as an Exempt Wholesale Generator of AES ES Deepwater, LLC.

Filed Date: 10/19/2010.

Accession Number: 20101019-5056.

Comment Date: 5 p.m. Eastern Time on Tuesday, November 9, 2010.

Take notice that the Commission received the following electric rate filings:

Docket Numbers: ER11-137-000.

Applicants: PacifiCorp.

Description: PacifiCorp submits tariff filing per 35: Supplement Market Power Update to be effective 10/18/2010.

Filed Date: 10/18/2010.

Accession Number: 20101018-5163.

Comment Date: 5 p.m. Eastern Time on Monday, November 8, 2010.

Docket Numbers: ER11-138-000.

Applicants: Midwest Independent Transmission System Operator, Inc.

Description: Midwest Independent Transmission System Operator, Inc. submits tariff filing per 35: 10-18-10 Clean-Up Compliance to be effective 7/28/2010.

Filed Date: 10/18/2010.

Accession Number: 20101018-5193.

Comment Date: 5 p.m. Eastern Time on Monday, November 8, 2010.

Docket Numbers: ER11-1828-000.

Applicants: Maine Public Service Company.

Description: Maine Public Service Company submits tariff filing per 35.13(a)(2)(iii): Interconnection Agreement Filing to be effective 9/29/2010.

Filed Date: 10/19/2010.

Accession Number: 20101019-5070.

Comment Date: 5 p.m. Eastern Time on Tuesday, November 9, 2010.

Docket Numbers: ER11-1829-000.

Applicants: ISO New England Inc.

Description: ISO New England Inc. submits tariff filing per 35.13(a)(2)(iii: FCM Conforming Chges. to Appendix A; Ancillary Chges. to App. A and III.13.6. to be effective 12/19/2010.

Filed Date: 10/19/2010.

Accession Number: 20101019-5086.

Comment Date: 5 p.m. Eastern Time on Tuesday, November 9, 2010.

Docket Numbers: ER11-1830-000.

Applicants: California Independent System Operator Corporation

Description: California Independent System Operator Corporation submits tariff filing per 35.13(a)(2)(iii): 2010-10-19 CAISO Generator Interconnection Procedures Amendment to be effective 12/19/2010.

Filed Date: 10/19/2010.

Accession Number: 20101019-5133.

Comment Date: 5 p.m. Eastern Time on Tuesday, November 9, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-26994 Filed 10-25-10; 8:45 am]

BILLING CODE 6717-01-P